DEPARTMENT OF EDUCATION

[CFDA No. 84.305P]

Institute of Education Sciences; English Language Acquisition Evaluation Program; Notice of Applicable Program Regulations

The following Education Department General Administrative Regulations apply to this program: 34 CFR parts 74, 77, 80, 81, 82, 85, 86 (part 86 applies only to Institutions of Higher Education), 97, 98, and 99. In addition 34 CFR part 75 is applicable, except for the provisions in 34 CFR 75.100, 75.101(b), 75.102, 75.103, 75.105, 75.109(a), 75.200, 75.201, 75.209, 75.210, 75.217, 75.219 (except that the Department may select an application for funding without following the applicable procedures if the application was evaluated under the preceding competition of the program; the application rated high enough to deserve selection; and the application was not selected for funding because the application was mishandled by the Department), 75.220 and 75.230.

FOR FURTHER INFORMATION CONTACT: Susan Sanchez, U.S. Department of Education, 80 F Street, NW., Washington, DC 20208-5501. Telephone: (202) 208-7061, or via Internet: Susan.Sanchez@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 9501 et seq. (the “Education Sciences Reform Act of 2002”, Title I of Public Law 107-279, November 5, 2002).

Dated: April 16, 2003.
Grover J. Whitehurst,
Director, Institute of Education Sciences.

[FR Doc. 03-9708 Filed 4-18-03; 8:45 am]

BILLING CODE 4000-01-P